DEPARTMENT OF THE INTERIOR

U.S. Geological Survey

[GX15.WB12.C25A1.00]

Agency Information Collection Activities: Request for Comments

AGENCY: U.S. Geological Survey (USGS), Interior.

ACTION: Notice of a new information collection, Alaska Beak Deformity Observations.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before October 13, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, Alaska Beak Deformity Observations' in all correspondence.

FOR FURTHER INFORMATION CONTACT: Colleen Handel, Research Wildlife Biologist at (907) 786-7181 or cmhandel@usgs.gov.

SUPPLEMENTARY INFORMATION:

I. Abstract

As part of the USGS Ecosystems mission to assess the status and trends of the Nation's biological resources, the Alaska Science Center Landbird Program conducts research on avian populations within Alaska. Beginning in the late 1990s, an outbreak of beak deformities in Black-capped Chickadees emerged in southcentral Alaska. USGS scientists launched a study to understand the scope of this problem and its effect on wild birds. Since that time, researchers have gathered important information about the deformities but their cause still remains unknown. The collection of PII is requested as part of this ongoing research in resident Alaskan birds. Members of the public provide observation reports of birds with deformities from around Alaska and other regions of North America. These reports are very important in that they allow researchers to determine the geographical distribution and species affected. Data collection over such a large and remote area would not be possible without the public's assistance. As part of the online reporting system, an individual's phone number, email address, and mailing address are requested. This information allows researchers to request additional details or verify reports if necessary but is not required for submission. PII is used only for contact purposes, is stored in a separate table that is encrypted, and is not shared in any way with other individuals, groups, or organizations.

II. Data

OMB Control Number: 1028-NEW.

Title: Alaska Beak Deformity Observations.

Type of Request: An existing collection without OMB approval.

Affected Public: General Public.

Respondent's Obligation: None. Participation is voluntary.

Frequency of Collection: Average four observations a week.

Estimated Annual Number of Respondents: 100.

Estimated Total Number of Annual Responses: 208.

Estimated Time per Response: Approximately 5 minutes.

Estimated Annual Burden Hours: 16 hours.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Mark Shasby,
Alaska Science Center Director.

[FR Doc. 2015-20125 Filed 8-13-15; 8:45 am]

BILLING CODE 4311-AM-P